DEPARTMENT OF HOUSING AND URBAN DEVELOPMENT

[Docket No. FR-5300-N-21]

Notice of Availability: Notice of Funding Availability (NOFA) for HUD's Fiscal Year (FY) 2009 Section 202 Supportive Housing for the Elderly

AGENCY: Office of the Assistant Secretary for Housing—Federal Housing Commissioner, HUD.

ACTION: Notice.

SUMMARY: HUD announces the availability on its Web site of the application information, deadline information and other requirements for the FY2009 Section 202 Supportive Housing for the Elderly. Approximately $420.9 million in capital advance funds plus associated project rental assistance contract (PRAC) funds is made available through this NOFA, by the Department of Housing and Urban Development Appropriations Act, 2009 (Pub. L. 111-8, approved March 11, 2009), and any carryover funds available. This program provides funding for the development and operation of supportive housing for very low-income persons who are 62 years of age or older. Capital advance funds are to assist in the cost of developing the housing. PRAC funds will cover the difference between the HUD-approved operating costs of the project and the tenants' contributions toward rent (30 percent of their adjusted income). The notice providing information regarding the application process, funding criteria and eligibility requirements is available on the Grants.gov Web site at http://apply.07.grants.gov/apply/forms_apps_idx.html. A link to Grants.gov is also available on the HUD Web site at http://www.hud.gov/offices/adm/grants/fundsavail.cfm. The Catalogue of Federal Domestic Assistance (CFDA) number for Section 202 Supportive Housing for the Elderly is 14.157. Applications must be submitted electronically through Grants.gov.

FOR FURTHER INFORMATION CONTACT: For information concerning the Section 202 program, contact Aretha M. Williams, Housing Project Manager, Grant Policy and Management Division, Office of Housing, Department of Housing and Urban Development, 451 Seventh Street, SW., Room 6142, Washington, DC 20410; telephone number 202-402-2480 (this is not a toll-free number). Persons with speech or hearing impairments may access this telephone number via TTY by calling the toll-free Federal Information Relay Service during working hours at 800-877-8339.

Dated: August 20, 2009.
David H. Stevens,
Assistant Secretary of Housing—Federal Housing Commissioner.

[FR Doc. E9-21559 Filed 9-2-09; 4:15 pm]

BILLING CODE 4210-67-P